DEPARTMENT OF ENERGY

Federal Energy Regulatory Commission

Combined Notice of Filings # 1

Take notice that the Commission received the following electric corporate filings:

Docket Numbers: EC23-98-000.

Applicants: Glover Creek Solar, LLC,PGR 2022 Lessee 9, LLC.

Description: Joint Application for Authorization Under Section 203 of the Federal Power Act of Glover Creek Solar, LLC, et al.

Filed Date: 6/13/23.

Accession Number: 20230613-5176.

Comment Date: 5 p.m. ET 7/5/23.

Take notice that the Commission received the following exempt wholesale generator filings:

Docket Numbers: EG23-195-000.

Applicants: DeCordova BESS LLC.

Description: DeCordova BESS LLC submits Notice of Self-Certification of Exempt Wholesale Generator Status.

Filed Date: 6/13/23.

Accession Number: 20230613-5142.

Comment Date: 5 p.m. ET 7/5/23.

Docket Numbers: EG23-196-000.

Applicants: Crane 2 BESS, LLC.

Description: Crane 2 BESS, LLC submits Notice of Self-Certification of Exempt Wholesale Generator Status.

Filed Date: 6/14/23.

Accession Number: 20230614-5077.

Comment Date: 5 p.m. ET 7/5/23.

Take notice that the Commission received the following electric rate filings:

Docket Numbers: ER15-1706-005.

Applicants: Newark Energy Center, LLC.

Description: Newark Energy Center LLC submits Supplement to Informational Filing, Request for Prospective One-Time Waiver, Shortened Comment Period, Expedited Consideration, and Confidential Treatment.

Filed Date: 6/9/23.

Accession Number: 20230609-5217.

Comment Date: 5 p.m. ET 6/20/23.

Docket Numbers: ER17-1531-009.

Applicants: CPV Fairview, LLC.

Description: Notice of Change in Status of CPV Fairview, LLC.

Filed Date: 6/13/23.

Accession Number: 20230613-5173.

Comment Date: 5 p.m. ET 7/5/23.

Docket Numbers: ER22-962-004.

Applicants: PJM Interconnection, L.L.C.

Description: Compliance filing: Order No. 2222 Compliance and Request for Action by November 30, 2023 to be effective 7/1/2023.

Filed Date: 6/14/23.

Accession Number: 20230614-5084.

Comment Date: 5 p.m. ET 7/5/23.

Docket Numbers: ER23-739-001.

Applicants: ISO New England Inc., Eversource Energy Service Company (as agent), New England Power Pool Participants Committee, The United Illuminating Company.

Description: Tariff Amendment: ISO New England Inc. submits tariff filing per 35.17(b): ISO-NE; Deficiency Response—Treatment of Storage as Transmission-Only Assets to be effective 12/31/9998.

Filed Date: 6/14/23.

Accession Number: 20230614-5032.

Comment Date: 5 p.m. ET 7/5/23.

Docket Numbers: ER23-743-001.

Applicants: ISO New England Inc., Eversource Energy Service Company (as agent), The United Illuminating Company, New England Power Pool Participants Committee.

Description: Tariff Amendment: ISO New England Inc. submits tariff filing per 35.17(b): ISO-NE; Deficiency Response—Treatment of Storage as Transmission-Only Assets to be effective 12/31/9998.

Filed Date: 6/14/23.

Accession Number: 20230614-5034.

Comment Date: 5 p.m. ET 7/5/23.

Docket Numbers: ER23-2134-000.

Applicants: Midcontinent Independent System Operator, Inc., Ameren Illinois Company.

Description: § 205(d) Rate Filing: Midcontinent Independent System Operator, Inc. submits tariff filing per 35.13(a)(2)(iii): 2023-06-14_SA 3028 Ameren IL-Prairie Power Project #34 Westridge to be effective 8/14/2023.

Filed Date: 6/14/23.

Accession Number: 20230614-5024.

Comment Date: 5 p.m. ET 7/5/23.

Docket Numbers: ER23-2135-000.

Applicants: PJM Interconnection, L.L.C.

Description: § 205(d) Rate Filing: Original IISA, SA No. 6950 and ICSA, SA No. 6951; Queue No. AF2-222 to be effective 5/15/2023.

Filed Date: 6/14/23.

Accession Number: 20230614-5040.

Comment Date: 5 p.m. ET 7/5/23.

Docket Numbers: ER23-2136-000.

Applicants: PJM Interconnection, L.L.C.

Description: Tariff Amendment: Notice of Cancellation of ISA, SA No. 2547, Queue No. S29B to be effective 6/14/2023.

Filed Date: 6/14/23.

Accession Number: 20230614-5055.

Comment Date: 5 p.m. ET 7/5/23.

Docket Numbers: ER23-2137-000.

Applicants: Northern States Power Company, a Minnesota corporation.

Description: § 205(d) Rate Filing: 2023-6-14 NSP BLUE CIAC 735-NSP to be effective 6/15/2023.

Filed Date: 6/14/23.

Accession Number: 20230614-5056.

Comment Date: 5 p.m. ET 7/5/23.

Docket Numbers: ER23-2138-000.

Applicants: Midcontinent Independent System Operator, Inc., Ameren Illinois Company.

Description: § 205(d) Rate Filing: Midcontinent Independent System Operator, Inc. submits tariff filing per 35.13(a)(2)(iii): 2023-06-14_SA 4085 Ameren IL-SIPC Interconnection Agreement to be effective 8/14/2023.

Filed Date: 6/14/23.

Accession Number: 20230614-5087.

Comment Date: 5 p.m. ET 7/5/23.

Docket Numbers: ER23-2139-000.

Applicants: Interstate Power and Light Company.

Description: § 205(d) Rate Filing: Interstate Power and Light Company Lansing Retirement to be effective 8/14/2023.

Filed Date: 6/14/23.

Accession Number: 20230614-5094.

Comment Date: 5 p.m. ET 7/5/23.

Take notice that the Commission received the following electric securities filings:

Docket Numbers: ES23-47-000; ES23-48-000; ES23-49-000; ES23-50-000.

Applicants: The United Illuminating Company, The Central Maine Power Company, Gas and Electric Corporation, New York State Electric & Gas Corporation.

Description: Application Under Section 204 of the Federal Power Act for Authorization to Issue Securities of New York State Electric & Gas Corporation, et al.

Filed Date: 6/12/23.

Accession Number: 20230612-5222.

Comment Date: 5 p.m. ET 7/3/23.

Take notice that the Commission received the following qualifying facility filings:

Docket Numbers: QF15-475-003.

Applicants: REUT Origination, LLC, a Delaware Limited Liability Company.

Description: Refund Report of SunE Solar XVII Project1, LLC [RMP—Fiddler's Canyon 1-UT].

Filed Date: 6/14/23.

Accession Number: 20230614-5081.

Comment Date: 5 p.m. ET 7/5/23.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: June 14, 2023.
Debbie-Anne A. Reese,
Deputy Secretary.

[FR Doc. 2023-13166 Filed 6-20-23; 8:45 am]

BILLING CODE 6717-01-P